DEPARTMENT OF LABOR

Office of the Secretary

All Items Consumer Price Index for All Urban Consumers; United States City Average

Pursuant to Section 112 of the 1976 amendments to the Federal Election Campaign Act (Pub. L. 94-283, 2 U.S.C. 441a(c)(2)(B)(ii)), the Secretary of Labor has certified to the Chairman of the Federal Election Commission and publishes this notice in the Federal Register that the United States City Average All Items Consumer Price Index for All Urban Consumers (1967=100) increased 342.21 percent from its 1974 annual average of 147.7 to its 2010 annual average of 653.198 and that it increased 23.2 percent from its 2001 annual average of 530.4 to its 2010 annual average of 653.198. Using 1974 as a base (1974=100), I certify that the United States City Average All Items Consumer Price Index for All Urban Consumers thus increased 342.2 percent from its 1974 annual average of 100 to its 2010 annual average of 442.246. Using 2001 as a base (2001=100), I certify that the United States City Average All Items Consumer Price Index for All Urban Consumers thus increased 23.2 percent from its 2001 annual average of 100 to its 2010 annual average of 123.152. Using 2006 as a base (2006=100), I certify that the CPI increased 8.2 percent from its 2006 annual average of 100 to its 2010 annual average of 108.163.

Signed at Washington, DC, on the 25th day of May 2011.
Hilda L. Solis,
Secretary of Labor.

[FR Doc. 2011-13747 Filed 6-1-11; 8:45 am]

BILLING CODE 4510-24-P